DEPARTMENT OF LABOR

Occupational Safety and Health Administration

[Docket No. OSHA-2020-0002]

National Advisory Committee on Occupational Safety and Health (NACOSH); Notice of Membership Appointments

AGENCY: Occupational Safety and Health Administration (OSHA), Labor.

ACTION: Notice of NACOSH membership appointments.

SUMMARY: On January 14, 2020, the Secretary of Labor appointed four members to serve on NACOSH.

FOR FURTHER INFORMATION CONTACT: For press inquiries: Mr. Francis Meilinger, Director, OSHA Office of Communications, U.S. Department of Labor; telephone (202) 693-1999, TTY (877-889-5627); email meilinger.francis2@dol.gov.

For general information: Ms. Amy Agro Wangdahl, Director, OSHA Office of Maritime and Agriculture, Directorate of Standards and Guidance, U.S. Department of Labor; telephone (202) 693-2066, TTY (877-889-5627); email wangdahl.amy@dol.gov.

For copies of this Federal Register Notice: Electronic copies of this Federal Register notice are available at http://www.regulations.gov. This notice, as well as news releases and other relevant information, are also available at OSHA's web page at www.osha.gov.

SUPPLEMENTARY INFORMATION:

I. Background

The Occupational Safety and Health Act of 1970 (OSH Act) (29 U.S.C. 651, 656) established NACOSH to advise, consult with and make recommendations to the Secretary of Labor and the Secretary of Health and Human Services (HHS) on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR part 1912a).

NACOSH is comprised of 12 members: Four public representatives, two management representatives, two labor representatives, two occupational safety professional representatives, and two occupational health professional representatives (29 CFR 1912a.2). The Secretary of Labor appoints all of these members. However, the Secretary of HHS designates four of the representatives: Two of the four public representatives and the two occupational health professional representatives. The terms of six NACOSH of the twelve members expired on July 31, 2020, and the remaining six NACOSH members' terms will expire on July 31, 2021.

On February 26, 2020, OSHA published a request for nominations for the six NACOSH positions that would expire on July 31, 2020. Specifically, OSHA requested nominations for:

• Two public representatives (one to be designated by the Secretary of HHS);

• One management representative;

• One labor representative;

• One occupational safety professional representative; and

• One occupational health professional representative (to be designated by the Secretary of HHS).

After the nomination period closed, OSHA provided HHS with all nominations and supporting materials for the two vacancies in the membership categories which the Secretary of HHS designates. HHS has indicated that the Secretary of HHS will designate two NACOSH members to fill the vacant positions at a later date. In the meantime, the Secretary of Labor proceeded with the appointment of individuals to the remaining four positions.

NACOSH members serve staggered terms, unless the member becomes unable to serve, resigns, ceases to be qualified to serve, or is removed by the Secretary. Accordingly, the Secretary has appointed four members to a two-year term. If a vacancy occurs before a term expires, the Secretary may appoint a new member who represents the same interest as the predecessor to serve the remainder of the unexpired term. The Committee must meet at least two times a year (29 U.S.C. 656(a)(2)).

II. Appointment of Committee Members

OSHA received nominations of highly qualified individuals in response to the agency's request for nominations (85 FR 11111, February 26, 2020). The Secretary appointed NACOSH members on the basis of their experience and competence in the field of occupational safety and health (29 CFR 1912a.2). The newly appointed NACOSH members are:

Public Representative

• Leanne Cobb, Palm Beach County Board of County Commissioners

Labor Representative

• Rebecca Reindel, AFL-CIO

Management Representative

• Amy K. Harper, National Safety Council

Safety Representative

• Kathleen Dobson, Alberici Constructors, Inc.

Authority and Signature

Amanda L. Edens, Deputy Assistant Secretary of Labor for Occupational Safety and Health, directed the preparation of this notice under the authority granted by 5 U.S.C. App. 2; 29 U.S.C. 656; 29 CFR part 1912a; 41 CFR part 102-3; and Secretary of Labor's Order No. 8-2020 (85 FR 58393, September 18, 2020).

Signed at Washington, DC, on January 28, 2021.
Amanda L. Edens,
Deputy Assistant Secretary of Labor for Occupational Safety and Health.

[FR Doc. 2021-02212 Filed 2-2-21; 8:45 am]

BILLING CODE 4510-26-P